NATIONAL SCIENCE FOUNDATION

Office of Polar Programs; Comprehensive Environmental Evaluations for Antarctic Activities

AGENCY: National Science Foundation (NSF).

ACTION: Notice.

SUMMARY: National Science Foundation gives notice of the availability of a Final Environmental Impact Statement/Comprehensive Environmental Evaluation (FEIS/FCEE) for activities proposed to be undertaken in Antarctica.

DATES: The waiting period ends January 18, 2005.

ADDRESSES: Dr. Polly A. Penhale, Office of Polar Programs, Room 755, National Science Foundation, 4201 Wilson Boulevard, Arlington, VA 22230, ppenhale@nsf.gov.

FOR FURTHER INFORMATION CONTACT: Dr. Polly A. Penhale, Environmental Officer, Office of Polar Programs, (703) 292-8033, ppenhale@nsf.gov.

SUPPLEMENTARY INFORMATION: Article 3 of Annex I to the Protocol on Environmental Protection of the Antarctic Treaty requires the preparation of an EIS/CEE for any proposed Antarctic activity likely to have more than a minor or transitory impact. The Draft EIS/CEE for Project IceCube was made publicly available and comments were accepted during a 90-day comment period, as specified in 45 CFR 641.18(c). The Final EIS/CEE containing comments received on the Draft EIS/CEE and responses to these comments, is now publicly available and has been circulated to all Parties to the Protocol and parties that commented on the Draft EIS/CEE. This notice is published pursuant to 16 U.S.C. 2403a.

The National Science Foundation has submitted this Final EIS/CEE, for the operation of a high-energy neutrino telescope (Project IceCube) at the South Pole. The document is available on the Internet at http://www.nsf.gov/od/opp/antarct/treaty/cees/icecube/icecube_final_cee.pdf.

Nadene G. Kennedy,
Permit Officer.

[FR Doc. 04-24965 Filed 11-15-04; 8:45 am]

BILLING CODE 7555-01-M